DEPARTMENT OF ENERGY

Federal Energy Regulatory Commission

Notice of Commission or Commission Staff Attendance at MISO Meetings

The Federal Energy Regulatory Commission hereby gives notice that members of the Commission and Commission staff may attend the following MISO-related meetings:

• Advisory Committee (10:00 a.m.-3:00 p.m., Local Time)

○ August 26, 350 Market St., St. Paul, MN

○ September 23

○ October 21, 3 Statehouse Plaza, Little Rock, AR

○ November 18

○ December 9

• Board of Directors Audit & Finance Committee

○ August 26, 350 Market St., St. Paul, MN, (2:00 p.m.-3:30 p.m.)

○ September 24 (1:30 p.m.-3:30 p.m.)

○ October 21 (4:30 p.m.-6:00 p.m.)

• Board of Directors (8:30 a.m.-10:00 a.m., Local Time)

○ August 27, 350 Market St., St. Paul, MN

○ October 22

○ December 10

• Board of Directors Markets Committee (8:00 a.m.-10:00 a.m., Local Time)

○ August 26, 350 Market St., St. Paul, MN (Starts at 7:30 a.m.)

○ September 23

○ October 21, 3 Statehouse Plaza, Little Rock, AR

○ November 18

○ December 9

• Board of Directors System Planning Committee

○ August 26, 350 Market St., St. Paul, MN, (4:00 p.m.-6:00 p.m.)

○ October 15, (12:30 p.m.-2:00 p.m.)

○ November 19 (1:00 p.m.-3:00 p.m.)

○ December 9 (3:30-5:30 p.m.)

• MISO Informational Forum (3:00 p.m.-5:00 p.m., Local Time)

○ August 25, 350 Market St., St. Paul, MN

○ October 20, 3 Statehouse Plaza, Little Rock, AR

○ November 17

○ December 15

• MISO Market Subcommittee (9:00 a.m.-4:00 p.m., Local Time)

○ September 1

○ September 29

○ October 27

○ December 1

• MISO Supply Adequacy Working Group (9:00 a.m.-5:00 p.m., Local Time)

○ September 3

○ October 1

○ October 29

○ December 3

• MISO Regional Expansion Criteria and Benefits Task Force

○ October 12

• MISO Planning Advisory Committee (9:00 a.m.-5:00 p.m., Local Time)

○ September 16

○ October 14

○ November 11

○ December 16

Unless otherwise noted all of the meetings above will be held at: MISO Headquarters, 701 City Center Drive, 720 City Center Drive, and, Carmel, IN 46032.

Further information may be found at www.misoenergy.org.

The above-referenced meetings are open to the public.

The discussions at each of the meetings described above may address matters at issue in the following proceedings:

Docket No. EL14-21, Southwest Power Pool, Inc. v. Midcontinent Independent System Operator, Inc.

Docket No. ER14-1174, Southwest Power Pool, Inc.

Docket No. ER14-2850, Southwest Power Pool, Inc.

Docket No. ER09-1431, Midwest Independent Transmission System Operator, Inc.

Docket No. ER11-3279, Midwest Independent Transmission System Operator, Inc.

Docket No. ER11-4081, Midwest Independent Transmission System Operator, Inc.

Docket No. ER12-678, Midwest Independent Transmission System Operator, Inc.

Docket No. ER12-2302, Midwest Independent Transmission System Operator, Inc.

Docket No. ER12-2706, Midwest Independent Transmission System Operator, Inc.

Docket No. ER12-1266, Midwest Independent Transmission System Operator, Inc.

Docket No. ER12-1265, Midwest Independent Transmission System Operator, Inc.

Docket No. ER12-1194, Midwest Independent Transmission System Operator, Inc.

Docket No. ER12-309, Midwest Independent Transmission System Operator, Inc.

Docket No. ER13-692, Midcontinent Independent System Operator, Inc.

Docket No. ER13-2375, Midcontinent Independent System Operator, Inc.

Docket No. ER13-2376, Midcontinent Independent System Operator, Inc.

Docket No. ER13-2379, Midcontinent Independent System Operator, Inc.

Docket No. ER13-2124, Midcontinent Independent System Operator, Inc.

Docket No. ER13-2378, Midcontinent Independent System Operator, Inc.

Docket No. ER13-2337, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam

Docket No. AD14-3, Coordination of Energy and Capacity across the MISO/PJM Seam

Docket No. ER13-2124, Midcontinent Independent System Operator, Inc.

Docket No. ER14-1736, Midcontinent Independent System Operator, Inc.

Docket No. ER14-2605, Midcontinent Independent System Operator, Inc.

Docket No. ER14-2952, Midcontinent Independent System Operator, Inc.

Docket No. ER14-2156, Midcontinent Independent System Operator, Inc.

Docket No. ER14-2445, Midcontinent Independent System Operator, Inc.

Docket No. ER15-142, Midcontinent Independent System Operator, Inc.

Docket No. ER15-685, Midcontinent Independent System Operator, Inc.

Docket No. ER15-945, Midcontinent Independent System Operator, Inc.

Docket No. ER15-530, Midcontinent Independent System Operator, Inc.

Docket No. ER15-1067, Midcontinent Independent System Operator, Inc.

Docket No. ER15-767, Midcontinent Independent System Operator, Inc.

Docket No. ER15-1776, Midcontinent Independent System Operator, Inc.

Docket No. ER15-1877, Midcontinent Independent System Operator, Inc.

Docket No. ER15-1210, Midcontinent Independent System Operator, Inc.

Docket No. ER15-1890, Midcontinent Independent System Operator, Inc.

Docket No. ER15-1289, Midcontinent Independent System Operator, Inc.

Docket No. ER15-1345, Midcontinent Independent System Operator, Inc.

Docket No. ER13-1923, Midcontinent Independent System Operator, Inc.

Docket No. ER15-2050, Midcontinent Independent System Operator, Inc.

Docket No. ER15-1440, Midcontinent Independent System Operator, Inc.

Docket No. ER15-2145, Midcontinent Independent System Operator, Inc.

Docket No. ER15-2186, Midcontinent Independent System Operator, Inc.

Docket No. ER15-2190, Midcontinent Independent System Operator, Inc.

Docket No. ER15-2227, Midcontinent Independent System Operator, Inc.

Docket No. ER15-2256, Midcontinent Independent System Operator, Inc.

Docket No. ER15-2269, Midcontinent Independent System Operator, Inc.

Docket No. ER15-1571, Midcontinent Independent System Operator, Inc.

Docket No. ER15-2338, Midcontinent Independent System Operator, Inc.

Docket No. ER15-2364, Midcontinent Independent System Operator, Inc.

Docket No. EL15-90, Merricourt Power Partners, LLC v Midcontinent Independent System Operator, Inc.

Docket No. EL15-69, Acciona Wind v Midcontinent Independent System Operator, Inc.

Docket No. EL15-71, The People of the State of Illinois v Midcontinent Independent System Operator, Inc.

Docket No. EL15-70, Public Citizen, Inc. v Midcontinent Independent System Operator, Inc.

Docket No. EL15-77, Morgan Stanley Capital Group, Inc. v Midcontinent Independent System Operator, Inc.

Docket No. EL15-82, Illinois Industrial Consumers v Midcontinent Independent System Operator, Inc.

Docket No. EL15-89, Boston Energy Trading and Marketing, LLC v Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: August 19, 2015.
Kimberly D. Bose,
Secretary.

[FR Doc. 2015-20992 Filed 8-24-15; 8:45 am]

BILLING CODE 6717-01-P